DEPARTMENT OF ENERGY

Federal Energy Regulatory Commission

[Project No. 11730-000]

Alverno Hydroelectric Project; Notice of Teleconference

January 11, 2001.

A teleconference will be convened by staff of the Office of Energy Projects on January 23, 2001, at 2:00 p.m. EST to discuss measures to protect fish and wildlife resources made by the U.S. Fish and Wildlife Service and Michigan Department of Natural Resources under section 10(j) of the Federal Power Act. On October 20, 2000, a notice of availability of draft environmental assessment (DEA) was issued for the Alverno Hydroelectric Project.

In letters dated November 8, 2000, to the U.S. Fish and Wildlife Service and the Michigan Department of natural Resources, the Commission's staff explained that the resource agency recommended measures to protect fish and wildlife resources were considered in the DEA, but did not recommend adopting all of them. We will discuss the resource agency recommendations that staff did not recommended for adoption.

Anyone wishing to participate by teleconference should call 1-888-928-9122. They will need to give the operator the passcode “COSTELLO” and the leader “JOHN COSTELLO”.

If you have any questions about the teleconference, please call John Costello at (202) 219-2914 or e-mail at john.costello@ferc.fed.us.

David P. Boergers,
Secretary.

[FR Doc. 01-1428 Filed 1-17-01; 8:45 am]

BILLING CODE 6717-01-M